NATIONAL CREDIT UNION ADMINISTRATION

Sunshine Act Meeting

TIME AND DATE: 10:00 a.m., Thursday, January 21, 2016.

PLACE: Board Room, 7th Floor, Room 7047, 1775 Duke Street (All visitors must use Diagonal Road Entrance), Alexandria, VA 22314-3428.

STATUS: Open.

MATTERS TO BE CONSIDERED:

1. NCUA's Rules and Regulations, Office of Minority and Women Inclusion Reporting Structure.

2. NCUA's 2017-2021 Strategic Plan.

3. Overhead Transfer Rate Methodology.

4. Federal Credit Union Operating Fee Methodology.

RECESS: 11:30 a.m.

TIME AND DATE: 11:45 a.m., Thursday, January 21, 2016.

PLACE: Board Room, 7th Floor, Room 7047, 1775 Duke Street, Alexandria, VA 22314-3428.

STATUS: Closed.

MATTERS TO BE CONSIDERED:

1. Briefing on Supervisory Matter. Closed pursuant to Exemptions (8), (9)(i)(B), and (9)(ii).

2. Personnel. Closed pursuant to Exemptions (2), and (6).

FOR FURTHER INFORMATION CONTACT: Gerard Poliquin, Secretary of the Board, Telephone: 703-518-6304.

Gerard Poliquin,
Secretary of the Board.

[FR Doc. 2016-00986 Filed 1-14-16; 4:15 pm]

BILLING CODE 7535-01-P